FEDERAL MARITIME COMMISSION

Notice of Agreements Filed

The Commission hereby gives notice of the filing of the following agreements under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011849-002.

Title: HSDG/Maersk Sealand Space Charter Agreement.

Parties: Hamburg Sudamerikanische Dampfschifffahrts-Gesellschaft K.G., and A.P. Moller-Maersk A/S .

Filing Party: Marc J. Fink, Esq.; Sher & Blackwell; 1850 M Street, NW., Suite 900; Washington, DC 20036.

Synopsis: The amendment reduces the number of TEUs which Maersk Sealand may charter from HSDG; eliminates restrictive language regarding Rio Haina from Article 5.4 and adds December 31, 2004 as the expiration date of the agreement.

By Order of the Federal Maritime Commission.
Dated: October 15, 2004.
Bryant L. VanBrakle,
Secretary.

[FR Doc. 04-23471 Filed 10-19-04; 8:45 am]

BILLING CODE 6730-01-P